DEPARTMENT OF COMMERCE

Foreign-Trade Zones Board

[B-23-2026]

Foreign-Trade Zone (FTZ) 18, Notification of Proposed Production Activity; Tesla Inc; (Battery Storage Products and Components); Fremont, Livermore, and Lathrop, California

Tesla Inc submitted a notification of proposed production activity to the FTZ Board (the Board) for its facilities in Fremont, Livermore, and Lathrop, California within Subzone 18G. The notification conforming to the requirements of the Board's regulations (15 CFR 400.22) was received on February 11, 2026.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz. The proposed finished products and materials/components would be added to the production authority that the Board previously approved for the operation, as reflected on the Board's website.

The proposed finished products include inverters, Megapack storage batteries, and vehicle bi-directional static converters (duty rate ranges from duty-free to 3.40%).

The proposed foreign-status materials/components include: pyrotechnic disconnects; inductor assemblies; plastic insulative trays with inverters; plastic housing/brackets for pyrotechnic disconnects; plastic covers for touch safety from direct current; printed circuit board assemblies for inverter; aluminum covers for inverters; lithium-ion battery modules; aluminum covers for vehicle bi-directional static converters; heatsinks within vehicle bi-directional static converters; transformer cores within vehicle bi-directional static converters; plastic structural insulative trays within vehicle bi-directional static converters; steel fasteners—longer than 9.5mm; steel screws—threads with a diameter of less than 6mm; electrical connector housings for vehicle bi-directional static converters to low voltage systems; flexible rectangular pads of polyurethane; aluminum electromagnetic shields for PCBA within vehicle bi-directional static converters; printed circuit board assemblies for vehicle bi-directional static converters; silicone gap pads; copper brackets for static converters (duty rate ranges from duty-free to 6.20%).

Certain materials/components are subject to duties under section 122 of the Trade Act of 1974 (Section 122), section 232 of the Trade Expansion Act of 1962 (section 232), or section 301 of the Trade Act of 1974 (section 301), depending on the country of origin. The applicable section 122, section 232, and section 301 decisions require subject merchandise to be admitted to FTZs in privileged foreign status (19 CFR 146.41). Public comment is invited from interested parties. Submissions shall be addressed to the Board's Executive Secretary and sent to: ftz@trade.gov. The closing period for their receipt is April 13, 2026.

A copy of the notification will be available for public inspection in the “Online FTZ Information System” section of the Board's website.

For further information, contact Christopher Williams at christopher.williams@trade.gov.

Dated: February 26, 2026.
Elizabeth Whiteman,
Executive Secretary.

[FR Doc. 2026-04189 Filed 3-2-26; 8:45 am]

BILLING CODE 3510-DS-P